DEPARTMENT OF EDUCATION

[CFDA No. 47.076]

Mathematics and Science Partnerships

AGENCY: Department of Education.

ACTION: Notice inviting applications for new awards for fiscal year (FY) 2002 under a grants competition to be administered by the National Science Foundation in collaboration with the Department.

Purpose of Program: The Mathematics and Science Partnerships (MSP) is intended to improve the academic achievement of students in mathematics and science through partnerships of organizations providing education from pre-kindergarten through postsecondary schooling. The MSP is a jointly funded initiative supported by the National Science Foundation (NSF) and the Department.

Note: The Department and NSF are cooperating to implement a single grants competition that NSF is administering. For FY 2002 NSF has committed $160 million, and the Department $12.5 million, to support the MSP. This notice describes the statutory requirements for Department funding under the MSP, and informs interested applicants how to apply for these funds.

Eligible Applicants: To receive the Department's MSP funding, a partnership must comprise, at minimum, a State educational agency (SEA), a mathematics, science, or engineering department of an institution of higher education (IHE), and a high-need local educational agency (LEA). The lead applicant may be any one of these entities. The term “high-need LEA” is defined in the “Requirements for FY 2002 Competition” section of this notice.

Deadline for Transmittal of Applications: April 30, 2002.

Deadline for Intergovernmental Review: July 1, 2002.

Estimated Available Funds: $12,500,000.

Estimated Range of Awards: $100,000-$1,500,000 per year for up to 5 years.

Estimated Average Size: $700,000 per year.

Estimated Number of Awards: 10-20.

Note: The Department is not bound by any estimates in this notice. Future-year funding depends on the availability of appropriations.

Project Period: Up to 60 months.

SUPPLEMENTARY INFORMATION: The President's plan for improving American education, the No Child Left Behind initiative, is embedded in the major revisions to the Elementary and Secondary Education Act (ESEA), as amended by the No Child Left Behind Act of 2001 (Pub. L. 107-110). The President's plan includes the MSP, an initiative to improve student achievement in mathematics and science. The MSP builds on the Nation's dedication to educational reform through—

• Support of partnerships that unite the efforts of local school districts with science, mathematics, engineering, and education faculties of colleges and universities and other individuals and entities with an interest in improving student achievement in mathematics and science; and

• High expectations and achievement for all students.

The MSP Program is newly authorized in title II, part B of the Elementary and Secondary Education Act (ESEA). Together, the funds committed by NSF and the funds that the Congress appropriated to the Department for the MSP will support projects to raise student achievement in these core subject areas by giving teachers greater knowledge, understanding, and appreciation of the mathematics and science they teach.

As section 2201 of the ESEA explains, the program would specifically meet this broad objective by encouraging SEAs, IHEs, high-need LEAs, and schools to participate in programs that—

1. Improve and upgrade the status and stature of mathematics and science teaching by encouraging IHEs to assume greater responsibility for improving mathematics and science teacher education;

2. Focus on the education of mathematics and science teachers as a career-long process;

3. Bring mathematics and science teachers together with scientists, mathematicians, and engineers to improve the teachers' content knowledge and teaching skills; and

4. Develop more rigorous mathematics and science curricula that are aligned both with challenging State and local academic achievement standards, and the standards expected for postsecondary study in engineering, mathematics, and science.

The complete text of title II, part B is available on the Internet at: www.ed.gov/legislation/ESEA02/pg26.html.

The Department and NSF are collaborating to implement the MSP in ways that will maximize services and technical assistance to grantees by eliminating duplicative efforts of the two agencies and, at the same time, building on the strengths of each agency. There will be a single grant competition this year administered by NSF with the collaboration of the Department. A single set of reviewers will review all applications. After they have recommended those applications that they believe are of highest quality, the Department will make awards with Title II, part B funds to those that meet the special criteria contained in the statute.

Waiver of Proposed Rulemaking

Under the Administrative Procedure Act (5 U.S.C. 553) the Department generally offers interested parties the opportunity to comment on proposed regulations. However, to make timely grant awards in FY 2002, the Secretary has decided to issue these final requirements without first publishing them as proposals for public comment. These requirements will apply to the FY 2002 grant competition only. The Secretary takes this action under section 437(d)(1) of the General Education Provisions Act.

At a later date the Assistant Secretary plans to publish a notice of proposed requirements for this program and offer interested parties the opportunity to comment. The proposed requirements would apply to grant competitions under the program beginning in FY 2003.

The remainder of this notice explains the application content, selection criteria, and other information that prospective applicants will need to know to qualify for MSP grants that the Department will competitively award under title II, part B.

Requirements for FY 2002 Competition

NSF published a grant solicitation for the MSP on January 31, 2002 (announcement NSF-02-061). This solicitation gives applicants until April 30, 2002, to submit their applications, provides other rules that govern the content and formatting of these applications, and announces the selection criteria that NSF will use to assess the relative merit of each application.

All of the rules, deadlines, and selection criteria in the NSF announcement also apply to those wishing to receive MSP grants from the Department. Therefore, applicants that want to be considered for Department funding must respond to these selection criteria and application requirements, and adhere to the instructions for preparing applications contained in this NSF solicitation.

A copy of the NSF grant solicitation may be obtained on the NSF web site at: www.ehr.nsf.gov.

For general and continually updated information, applicants should consult the following web site: www.nsf.gov.

Invitational priorities. The Secretary is particularly interested in having applicants submit to NSF proposals that address one or more of the following strategies:

1. Engaging classroom teachers in mathematical or scientific research and development projects sponsored by IHEs or other private- and public-sector research organizations.

2. Engaging practicing teachers as professional colleagues who work together with scientists, mathematicians and engineers to master advanced, new content and teaching strategies.

3. Demonstrating how technology can be used in the classroom both to deepen teachers' scientific and mathematical understanding and to promote higher student achievement.

4. Establishing and evaluating the effectiveness of differential salary scales used to make the mathematics and science teaching profession more comparable in pay to the private sector. These differential salary scales would be both a tool to attract beginning teachers with deep mathematical or scientific training, and a means to create a career ladder capable of retaining highly skilled and effective teachers.

Other pre-award requirements. Consistent with section 2202 of the ESEA, before making any grant awards the Department must have the following additional information from applicants it has selected for funding:

1. The results of a comprehensive assessment of the teacher quality and professional development needs of any schools, LEAs, and SEAs that comprise the eligible partnership with respect to the teaching and learning of mathematics and science.

2. A description of how the activities to be carried out by the eligible partnership will be aligned with (a) challenging State academic content and student academic achievement standards in mathematics and science, and (b) other educational reform activities that promote student academic achievement in mathematics and science.

3. A description of how the activities to be carried out by the eligible partnership will be based on a review of scientifically based research, and an explanation of how the activities are expected to improve student academic achievement and strengthen the quality of mathematics and science instruction.

4. A description of (a) how the eligible partnership will carry out the activities described in this notice under “Authorized Activities”, and (b) the eligible partnership's plan for evaluation and accountability as described in section 2202(c) of the ESEA.

5. A description of how the eligible partnership will continue the activities funded by this program after the original grant has expired.

Eligible partnerships. To be eligible to receive an MSP grant from the Department, a partnership must include a high-need LEA. Section 2102(3) of the ESEA defines “high-need LEA” to mean an LEA—

1. (a) That serves not fewer than 10,000 children from families with incomes below the poverty line; or

(b) For which not less than 20 percent of the children served by the agency are from families with incomes below the poverty line; and

2. (a) For which there is a high percentage of teachers not teaching in the academic subjects or grade levels that the teachers were trained to teach; or

(b) For which there is a high percentage of teachers with emergency, provisional, or temporary certification or licensing.

Note: Section 2102(3) of the ESEA expressly applies only to the programs authorized in title II, part A of the ESEA, the Teacher and Principal Training and Recruiting Fund, and to the title II, part C Transition to Teaching Program. However, because the MSP authorized in Title II, part B of the ESEA includes no definition of the term “high-need LEA,” we believe it is reasonable to have the part A definition apply to this program as well. The Department will need to confirm that participating high-need LEAs meet this definition before it can award grants of title II, part B funds.

LEA poverty rates can be found in information about the “Application Process” for the Rural Education Achievement Program (REAP), on the Department's web site at the following address: www.ed.gov/offices/OESE/reap.html

The poverty rates are available only for LEAs that are included in the National Center for Education Statistics (NCES) Common Core of Data.

The total number of students in poverty in any LEA can be found on the Census Bureau web site at: www.census.gov/housing/saipe/sd97/

(Note: The number of children in poverty is the number in the sixth column.)

An applicant also should consider whether its proposed activities would be enhanced by including such other entities as: other mathematics, science, engineering, business, or teacher-training departments of higher education institutions; other LEAs; public charter schools, public or private elementary or secondary schools or consortia of these schools; businesses; professional organizations of scientists, engineers, and mathematicians; and nonprofit organizations with demonstrated effectiveness in improving the quality of mathematics and science teachers.

Authorized activities. The NSF program announcement identifies the activities that a partnership may carry out, consistent with the narrative and other content of its approved application and the activities authorized in section 2202(c) of the ESEA.

Supplement, not supplant. Section 2202(a)(4) of the ESEA requires a grantee to use funds the Department awards under the MSP to supplement, and not supplant, funds that the grantee otherwise would use for activities that the program authorizes.

Administration of grants. We administer all MSP grants funded with title II, part B funds under requirements of the Education Department General Education Regulations (EDGAR). Hence, a grantee must submit any programmatic or fiscal report to the Department, not to NSF. However, as part of the joint NSF-Department collaboration, the two agencies jointly will monitor grant activities and provide technical assistance. Moreover, the two agencies intend that Department-funded projects be joined with NSF-funded projects in a common system of collaboration and support coordinated by NSF.

Special application instructions. An application for title II, part B funds must conform to the NSF protocols; otherwise, NSF may reject the application. For this reason, we advise an applicant to review carefully both the grant solicitation announcement for the MSP that NSF published on January 31, 2002 (NSF-02-061), and NSF's general guidelines in the NSF Grant Proposal Guide (GPG). The complete text of the GPG is available electronically on the NSF web site at: www.nsf.gov

Other program requirements. If you are a member of a partnership receiving funds from the Department under this program, you must by law (section 2202(d)(1) of the ESEA) coordinate your use of these funds with any related activities that you or the partnership carry out with funds made available under section 203 of title II, part B of the Higher Education Act (the Partnership Program component of the Teacher Quality Enhancement Grant programs).

In addition, in implementing your project, we strongly encourage you to coordinate your activities with other Department programs that have teacher quality and mathematics and science components, including the following ESEA programs: title II, part A (Improving Teacher Quality State Grants); title I, part A, (Improving Basic Programs Operated by LEAs); title I, part F (Comprehensive School Reform); and title IV, part B (21st Century Community Learning Centers).

Applicable Regulations: (a) EDGAR in 34 parts 74, 75 except for §§ 75.200-75.210, 77, 79, 80, 81, 82, 85, 86, 97, 98, and 99. (b) The special rules announced in this notice.

For Applications and Further Information Contact: To obtain a copy of the NSF solicitation, visit the NSF web site at: www.nsf.gov

For further information on the Department of Education portion of the MSP, call or write Alexis Radocaj, U.S. Department of Education, Office of Elementary and Secondary Education, 400 Maryland Avenue, S.W., Room 5W234, FOB6, Washington, DC 20202-6175. Telephone: (202) 401-0821, by FAX: (202) 260-3420; or via Internet at: Alexis.Radocaj@ed.gov

If you use a telecommunications device for the deaf (TDD), you may call the Federal Information Relay Service (FIRS) at 1-888-877-8339.

Individuals with disabilities may obtain this document in an alternative format (e.g., Braille, large print, audiotape or computer diskette) on request to the contact person listed under For Applications and Further Information Contact.

Electronic Access to This Document

You may view this document, as well as all other Department of Education documents published in the Federal Register, in text or Adobe Portable Format (PDF) on the Internet at the following site: www.ed.gov/legislation/FedRegister

To use PDF you must have Adobe Acrobat reader, which is available free at this site. If you have questions about using PDF, call the U.S. Government Printing Office (GPO), toll free, at 1-888-293-6498; or in the Washington, DC, area at 202-512-1530.

Note: The official version of this document is the document published in the Federal Register. Free Internet access to the official edition of the Federal Register and the Code of Federal Regulations is available on GPO Access at: www.access.gpo.gov/nara/index.html

Program Authority: 20 U.S.C. 6661.
Dated: March 25, 2002.
Susan B. Neuman,
Assistant Secretary for Elementary and Secondary Education.

[FR Doc. 02-7644 Filed 3-28-02; 8:45 am]

BILLING CODE 4000-01-P